DEPARTMENT OF HOMELAND SECURITY

Coast Guard

33 CFR Part 117

[Docket No. USCG-2011-0547]

Drawbridge Operation Regulation; Lafourche Bayou, Lafourche, LA

AGENCY: Coast Guard, DHS.

ACTION: Notice of temporary deviation from regulations.

SUMMARY: The Commander, Eighth Coast Guard District, has issued a temporary deviation from the regulation governing the operation of the Cut Off vertical lift span bridge across the Lafourche Bayou, mile 36.3, at Cut Off, Lafourche Parish, LA. The deviation is necessary to perform major maintenance and repair on the bridge. This deviation allows the bridge to remain closed to navigation for 45 consecutive days except that from 6 a.m. through 6 p.m. the bridge will open every four hours, as necessary, to allow waiting vessel traffic to pass.

DATES: This deviation is effective from 6 a.m. on Monday, July 11, 2011 through 6 p.m. on Wednesday, August 24, 2011.

ADDRESSES: Documents mentioned in this preamble as being available in the docket are part of docket USCG-2011-0547 and are available online by going to http://www.regulations.gov, inserting USCG-2011-0547 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Jim Wetherington, Bridge Administration Branch, Coast Guard; telephone 504-671-2128, e-mail james.r.wetherington@uscg.mil. If you have questions on viewing the docket, call Renee V. Wright, Program Manager, Docket Operations, telephone 202-366-9826.

SUPPLEMENTARY INFORMATION: The Lafourche Parish Government has requested a temporary deviation from the operating schedule of the vertical lift span bridge across Lafourche Bayou, mile 36.3 in Cut Off, Lafourche Parish, LA. The vertical clearance of the bridge in the closed-to-navigation position is 5 feet above Mean High Water and 73 feet above Mean High Water in the open-to-navigation position.

In accordance with 33 CFR 117.465(a)(5), the vertical lift span of the bridge shall open on signal for the passage of vessels; except that from August 15-May 31, the draw need not open for the passage of vessels Monday-Friday, except Federal holidays, from 7 a.m.-8:30 a.m.; from 2 p.m. to 4 p.m.; and from 4:30 p.m. to 5:30 p.m. This deviation allows the vertical lift span of the bridge to remain closed to navigation from Monday, July 11, 2011 through Wednesday, August 24, 2011 except that from 6 a.m. through 6 p.m., the bridge will open every four hours, as necessary, to allow for the passage of any vessels in waiting.

The closure is necessary to perform major maintenance and repair. This maintenance is essential for the continued operation of the bridge. Notices will be published in the Eighth Coast Guard District Local Notice to Mariners and will be broadcast via the Coast Guard Broadcast Notice to Mariners System.

Navigation on the waterway consists of commercial and recreational fishing vessels, small to medium crew boats, and small tugs with and without tows. Alternate routes are available for the passage of vessels; however, this closure was coordinated with waterway interests who have indicated that they will be able to adjust their operations around the proposed work schedule. Small vessels may pass under the bridge while in the closed-to-navigation position provided caution is exercised.

Due to prior experience and coordination with waterway users, it has been determined that this closure will not have a significant effect on vessels that use the waterway.

In accordance with 33 CFR 117.35(e), the drawbridge must return to its regular operating schedule immediately at the end of the designated time period. This deviation from the operating regulations is authorized under 33 CFR 117.35.

Dated: June 21, 2011.
David M. Frank,
Chief, Bridge Administration Branch, U.S. Coast Guard, by Direction.

[FR Doc. 2011-17108 Filed 7-6-11; 8:45 am]

BILLING CODE 9110-04-P